DEPARTMENT OF AGRICULTURE

Forest Service

Umatilla National Forest, Garfield County, Washington; Upper Charley Subwatershed Ecosystem Restoration Projects

AGENCY: Forest Service, USDA.

ACTION: Notice of intent to prepare a supplemental environmental impact statement.

SUMMARY: This notice of intent initiates a Umatilla National Forest Land and Resource Management Plan amendment to incorporate the Lynx Conservation Assessment and Strategy (LCAS, August 2000) in support of the site-specific project called Upper Charley Subwatershed Ecosystem Restoration Projects (Federal Register, vol. 67, no. 91, page 31801).

DATES: Comments concerning this proposed action must be received by September 20, 2004. The draft environmental impact statement is expected November 2004 and the final environmental impact statement is expected spring 2005.

ADDRESSES: Send written comments to the Responsible Official, Jeff Blackwood, Forest Supervisor, Umatilla National Forest, 2517 S.W. Hailey Avenue, Pendleton, OR 97801. Send electronic comments to: comments-pacificnorthwest.umatilla@fs.fed.us. For further information, mail correspondence to Monte Fujishin, District Ranger, Pomeroy Ranger District, 71 West Main Street, Pomeroy, WA 99347.

FOR FURTHER INFORMATION CONTACT: See above address.

SUPPLEMENTARY INFORMATION:

Background

Canada lynx (Lynx Canadensis) was listed by U.S. Fish and Wildlife Service as a threatened species under the Endangered Species Act on March 24, 2000 (Federal Register, vol. 65, no. 58). In the final rule, U.S. Fish and Wildlife Service concluded National Forest Land and Resource Management Plans lack guidance for the conservation of lynx. In August 2000 the USDA Forest Service, USDI Bureau of Land Management, and USDI Fish and Wildlife Service issued “The Lynx Conservation Assessment and Strategy” (LCAS) to provide a consistent and effective approach to conserve lynx on federal lands.

The notice of intent to prepare an Environmental Impact Statement for Upper Charley Subwatershed Ecosystem Restoration Projects appeared in the Federal Register on August 25, 1998 (vol. 63, no. 164, pages 45220-45222). Notification of the Draft Environmental Impact Statement was printed in the Federal Register on April 21, 2000 (vol. 65, no. 78, page 21418). On May 10, 2002, Pomeroy District Ranger Monte Fujishin issued a Final Environmental Impact Statement and Record of Decision for Upper Charley Subwatershed Ecosystem Restoration Projects (Federal Register, vol. 67, no. 91, page 31801). On May 21, 2003 Oregon Natural Resources Council Fund (ONRC) filed a complaint in U.S. District Court against Linda Goodman, Regional Forester, Pacific Northwest Region; and United States Forest Service. The complaint stated the Umatilla Land and Resource Management Plan (Forest Plan) lacks guidance for the conservation of Canada lynx. Forest Supervisor, Jeff Blackwood decided to amend the Forest Plan and begin the amendment process with this Notice of Intent to prepare a Draft Supplemental Environmental Impact Statement. The supplemental statement will provide additional analysis and documentation in support of the May 2002 Upper Charley Subwatershed Ecosystem Restoration Projects Final Environmental Impact Statement.

Purpose and Need for Action

The Forest Plan amendment will provide management direction (objectives, standards, and guidelines) to guide the conservation of Canada lynx consistent with new science and the Endangered Species Act. Specific management direction needs to be added to fulfill our obligations under the Endangered Species Act as applied to the site-specific project called Upper Charley Subwatershed Ecosystem Restoration Projects.

Proposed Action

Forest Service proposes to amend the Umatilla Forest Plan to incorporate applicable conservation measures (objectives, standards, and guidelines) from the Lynx Conservation Assessment and Strategy only for the site-specific projected called Upper Charley Subwatershed Ecosystem Restoration Projects located in Umatilla National Forest.

Possible Alternatives

All alternatives described in Chapter 2 of the May 2002 FEIS remain unchanged except for an amendment to incorporate applicable conservation measures from the Lynx Conservation Assessment and Strategy. Alternatives are described in detail on pages II-2 through II-30 in the May 2002 Upper Charles FEIS.

Responsible Official

Jeff Blackwood, Forest Supervisor, Umatilla National Forest, 2517 S.W. Hailey Avenue, Pendleton, OR 97801.

Nature of Decision To Be Made

Whether or not Forest Supervisor, Jeff Blackwood, should amend the Umatilla Forest Plan and incorporate applicable conservation measures (objectives, standards, and guidelines) from “The Lynx Conservation Assessment and Strategy, 2nd Edition, August 2000”.

Issues

Key issues are described in detail on pages I-12 through I-16 in the May 2002 Upper Charley FEIS and include: Effects of the proposed activities on (1) ecosystem sustainability, (2) big game habitat, (3) water quality and fish habitat, and (4) how should roads be managed in the Upper Charley analysis area.

Comments Requested

This notice of intent initiates the 30-day scoping process that will guide development of a supplement to Upper Charley Subwatershed Ecosystem Restoration Projects FEIS. We are seeking comments on a forest plan amendment to incorporate LCAS conservation measures, and revalidate comments previously received for Upper Charley DEIS.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F.Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement of the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: August 5, 2004.
Jeff D. Blackwood,
Forest Supervisor.

[FR Doc. 04-18328 Filed 8-10-04; 8:45 am]

BILLING CODE 3410-11-M